DEPARTMENT OF HEALTH AND HUMAN SERVICES

Administration for Children and Families

Federal Allotments to State Developmental Disabilities Councils and Protection and Advocacy Formula Grant Programs for Fiscal Year 2004

AGENCY: Administration on Developmental Disabilities (ADD), Administration for Children and Families, Department of Health and Human Services.

ACTION: Notification of fiscal year 2004 federal allotments to state developmental disabilities councils and protection and advocacy formula grant programs.

SUMMARY: This notice sets forth Fiscal Year (FY) 2004 individual allotments and percentages of the total appropriation to States administering the State Developmental Disabilities Councils and Protection and Advocacy programs, pursuant to section 122 and section 142 of the Developmental Disabilities Assistance and Bill of Rights Act (Act). The allotment amounts are based on the FY 2004 President's Budget request and are contingent on congressional appropriations for FY 2004. If the Congress enacts a different appropriation amount in FY 2004 or if a revised state allocation formula is adopted by the Congress, these allotments will be adjusted accordingly. The State allotments are available on the ADD homepage on the Internet: http://www.acf.hhs.gov/programs/add/.

Effective Date: October 1, 2003.

FOR FURTHER INFORMATION CONTACT: Catherine Wade, Grants Fiscal Management Specialist, Office of Grants Management, Administration for Children and Families, telephone (202) 401-5798.

SUPPLEMENTARY INFORMATION: Section 122(a)(2) of the Act requires that adjustments in the amounts of State allotments shall be made not more often than annually and that States must be notified no less than six (6) months before the beginning of the fiscal year in which such adjustment is to take effect. The Catalog of Federal Domestic Assistance (CFDA) number is 93.630. In relation to the State Developmental Disabilities Council allotments, the descriptions of service needs were reviewed in the State plans and are consistent with the results obtained from the data elements and projected formula amounts for each State (Section 122(a)(5)).

The Administration on Developmental Disabilities has updated the following data elements for issuance of Fiscal Year 2004 allotments for both of the Developmental Disabilities formula grant programs.

A. The number of beneficiaries in each State and Territory under the Childhood Disabilities Beneficiary Program are from Table 5.J10 of the “Annual Statistical Supplement, 2001, to the Social Security Bulletin” issued by the Social Security Administration;

B. State data on Average Per Capita Income are from Table B—Per Capita Personal Income, 1999-2001 of the “Survey of Current Business,” October, 2002, issued by the Bureau of Economic Analysis, U.S. Department of Commerce. The most recent comparable data for the Territories were obtained from the Department of Commerce September 2002; and

C. State data on Total Population is based on “State Population Estimates: July 1, 2001” issued December 2002 by the Bureau of the Census, U.S. Department of Commerce. The Working Population (ages 18-64) is based on 2000 Census from the “Estimate of Resident Population of the U.S. by Selected Age Groups and Sex,” issued by the Bureau of the Census. Total population estimates for the Territories are also based on 2000 Census data issued by the Bureau of Census. The Territories working population was issued in the Bureau of Census report, “General Characteristics Report: 1980,” which is the most recent data available from the Bureau.

Table 1.—FY 2004 Allotments Administration on Developmental Disabilities
| Developmental disabilities councils | Percentage of total appropriation
Total | $69,800,000 | 100.000000
Alabama | 1,269,365 | 1.818574
Alaska | 450,000 | .644699
Arizona | 1,164,570 | 1.668438
Arkansas | 785,444 | 1.125278
California | 6,453,984 | 9.246401
Colorado | 764,825 | 1.095738
Connecticut | 631,308 | 0.904453
Delaware | 450,000 | .644699
District of Columbia | 450,000 | .644699
Florida | 3,514,537 | 5.035153
Georgia | 1,885,776 | 2.701685
Hawaii | 450,000 | .644699
Idaho | 450,000 | .644699
Illinois | 2,598,821 | 3.723239
Indiana | 1,472,042 | 2.108943
Iowa | 729,871 | 1.045660
Kansas | 604,303 | .865764
Kentucky | 1,170,815 | 1.677385
Louisiana | 1,309,806 | 1.876513
Maine | 463,067 | .663420
Maryland | 1,008,412 | 1.444716
Massachusetts | 1,259,134 | 1.803917
Michigan | 2,405,577 | 3.446385
Minnesota | 1,016,504 | 1.456309
Mississippi | 918,258 | 1.315556
Missouri | 1,346,924 | 1.929691
Montana | 450,000 | .644699
Nebraska | 450,000 | .644699
Nevada | 462,394 | .662456
New Hampshire | 450,000 | .644699
New Jersey | 1,547,765 | 2.217428
New Mexico | 506.975 | .726325
New York | 3,962,119 | 5.676388
North Carolina | 1,972,944 | 2.826567
North Dakota | 450,000 | .644699
Ohio | 2,768,220 | 3.965931
Oklahoma | 883,007 | 1.265053
Oregon | 749,553 | 1.073858
Pennsylvania | 2,924.521 | 4.189858
Rhode Island | 450,000 | .644699
South Carolina | 1,110,474 | 1.590937
South Dakota | 450,000 | .644699
Tennessee | 1,475,993 | 2.114603
Texas | 4,516,842 | 6.471120
Utah | 570,329 | .817090
Vermont | 450,000 | .644699
Virginia | 1,496,132 | 2.143456
Washington | 1,146,785 | 1.642958
West Virginia | 646,191 | .925775
Wisconsin | 1,271,345 | 1.821411
Wyoming | 450,000 | .644699
American Samoa | 234,348 | .335742
Guam | 234,348 | .335742
Northern Mariana Islands | 234,348 | .335742
Puerto Rico | 2,227,676 | 3.191513
Virgin Islands | 234,348 | .335742

Table 2.—FY 2004 Allotments Administration on Developmental Disabilities
| Protection & advocacy | Percentage of total appropriation
Total | ¹ $34,300,000 | 100.000000
Alabama | 565,733 | 1.649367
Alaska | 345,429 | 1.007082
Arizona | 525,992 | 1.533504
Arkansas | 350,108 | 1.020723
California | 2,877,721 | 8.389849
Colorado | 378,623 | 1.103857
Connecticut | 351,616 | 1.025120
Delaware | 345,429 | 1.007082
District of Columbia | 345,429 | 1.007082
Florida | 1,566,984 | 4.568466
Georgia | 840,683 | 2.450971
Hawaii | 345,429 | 1.007082
Idaho | 345,429 | 1.007082
Illinois | 1,158,316 | 3.377015
Indiana | 656,144 | 1.912956
Iowa | 345,429 | 1.007082
Kansas | 345,429 | 1.007082
Kentucky | 521,777 | 1.521216
Louisiana | 583,728 | 1.701831
Maine | 345,429 | 1.007082
Maryland | 449,533 | 1.310592
Massachusetts | 561,046 | 1.635703
Michigan | 1,072,003 | 3.125373
Minnesota | 453,090 | 1.320962
Mississippi | 409,250 | 1.193149
Missouri | 600,365 | 1.750335
Montana | 345,429 | 1.007082
Nebraska | 345,429 | 1.007082
Nevada | 345,429 | 1.007082
New Hampshire | 345,429 | 1.007082
New Jersey | 689,825 | 2.011152
New Mexico | 345,429 | 1.007082
New York | 1,765,521 | 5.147292
North Carolina | 879,455 | 2.564009
North Dakota | 345,429 | 1.007082
Ohio | 1,233,704 | 3.596805
Oklahoma | 393,667 | 1.147717
Oregon | 357,565 | 1.042464
Pennsylvania | 1,303,250 | 3.799563
Rhode Island | 345,429 | 1.007082
South Carolina | 494,963 | 1.443041
South Dakota | 345,429 | 1.007082
Tennessee | 657,837 | 1.917892
Texas | 2,014,073 | 5.871933
Utah | 345,429 | 1.007082
Vermont | 345,429 | 1.007082
Virginia | 666,903 | 1.944324
Washington | 511,307 | 1.490691
West Virginia | 362,280 | 1.056210
Wisconsin | 566,640 | 1.652012
Wyoming | 345,429 | 1.007082
American Samoa | 184,802 | .538781
Guam | 184,802 | .538781
Northern Mariana Islands | 184,802 | .538781
Puerto Rico | 993,137 | 2.895443
Virgin Islands | 184,802 | .538781
DNA People | Legal
Services ² | 184,802 | .538781
¹ In accordance with Public Law 106-402, Section 142(a)(6)(A), $700,000 has been withheld to fund technical assistance. The statute provides for spending up to two percent (2%) of the amount appropriated under Section 142 for this purpose. Unused funds will be reallotted in accordance with Section 122(e) of the Act.
² American Indian Consortiums are eligible to receive an allotment under Section 142(a)(6)(B) of the Act.

Dated: April 9, 2003.
Patricia A. Morrissey,
Commissioner, Administration on Developmental Disabilities.

[FR Doc. 03-9155 Filed 4-14-03; 8:45 am]

BILLING CODE 4184-01-P